DEPARTMENT OF COMMERCE

National Institute of Standards and Technology

Public Safety Voice Over Internet Protocol (VoIP) Roundtable for Organizations Interested in Utilization of VoIP for Communication Between Public Safety Personnel

AGENCY: National Institute of Standards and Technology, Department of Commerce.

ACTION: Notice of Public Workshop.

SUMMARY: The Office of Law Enforcement Standards (OLES), in cooperation with the Department of Homeland Security's Office of Interoperability and Compatibility (DHS/OIC) and representatives of the public safety community, will hold a public working group on April 7-11, 2008, at the Institute for Telecommunication Sciences (ITS) in Boulder, CO. The purpose of the first three days of the meeting (April 7-10, 2008) is to bring manufacturers together to establish Voice over IP (VoIP) connectivity between radio communication system bridging devices. The purpose of the last two days of the working group is to discuss the development of an enhanced implementation profile for VoIP between radio system bridging solutions. The results of this and subsequent roundtable discussions will be used in the development of specific implementation profiles for VoIP usage in public-safety owned systems.

There is no charge for the roundtable; however, because of meeting room restrictions, advance registration is mandatory and limited to three representatives from any one organization. There will be no on-site, same-day registration. The registration deadline is April 1, 2008. Please note registration and admittance instructions and other additional information under the SUPPLEMENTARY INFORMATION section of this notice.

DATES: The workshop will be held on April 7-10, 2008, from 8:30 a.m. until 5 p.m. MT, and April 11, 2008 from 8:30 a.m. until Noon.

ADDRESSES: The roundtable will be held in the Radio Building (Building 1), Room 1103/1105/1107, 325 Broadway, Boulder, CO 80305.

FOR FURTHER INFORMATION CONTACT: Dereck Orr, (303) 497-5400, e-mail: dereck.orr@nist.gov. The mailing address is 325 Broadway, Mail Stop ITS.P, Boulder, CO 80305. Information regarding OLES can be viewed at http://www.eeel.nist.gov/oles/. Information regarding DHS/OIC can be viewed at http://www.safecomprogram.gov. Information regarding ITS can be viewed at http://www.its.bldrdoc.gov.

SUPPLEMENTARY INFORMATION: In response to a request from the U.S. Department of Homeland Security (DHS), Science and Technology Directorate (S&T), Command, Control and Interoperability Division (CCI), Office of Interoperability and Compatibility (OIC), the NIST Office of Law Enforcement Standards (OLES) is developing protocol implementation profiles for VoIP communications between public safety personnel.

The request from OIC germinated from practitioner-raised issues related to VoIP-enabled solutions being marketed to the public safety community as an “interoperability solution,” yet these solutions will not interoperate with VoIP-enabled solutions from other manufacturers making the same claim. The proper way to address this situation is to develop a protocol implementation profile (or set of profiles) that contains the minimum standards, parameters and values necessary to ensure that solutions developed by independent organizations will interoperate with each other. This roundtable discussion is intended to lead to the development of a protocol implementation profile for VoIP-enabled radio system bridging solutions.

Anyone wishing to attend this meeting must register by close of business April 1, 2008, in order to attend. Please submit your name, time of arrival, e-mail address and phone number to Ms. Kathy Mayeda and she will provide you with logistics information for the meeting. Ms. Mayeda's e-mail address is kmayeda@its.bldrdoc.gov and her phone number is (303) 497-5890.

All attendees are required to submit their name, time of arrival, e-mail address and phone number to Ms. Mayeda. Non-U.S. citizens must also submit their country of citizenship, title, employer/sponsor and address.

Dated: February 29, 2008.
Richard F. Kayser,
Acting Deputy Director.

[FR Doc. E8-4563 Filed 3-6-08; 8:45 am]

BILLING CODE 3510-13-P